DEPARTMENT OF ENERGY

[GDO Docket No. EA-462-A]

Application for Renewal of Authorization To Export Electric Energy; Guzman Energy LLC

AGENCY: Grid Deployment Office, Department of Energy.

ACTION: Notice of application.

SUMMARY: Guzman Energy LLC (the Applicant or Guzman Energy) has applied for renewed authorization to transmit electric energy from the United States to Mexico pursuant to the Federal Power Act.

DATES: Comments, protests, or motions to intervene must be submitted on or before December 15, 2023.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On April 10, 2023, the authority to issue such orders was delegated to the DOE's Grid Deployment Office (GDO) by Delegation Order No. S1-DEL-S3-2023 and Redelegation Order No. S3-DEL-GD1-2023.

On December 6, 2018, DOE issued Order No. EA-462, authorizing Guzman Energy to transmit electricity from the United States to Mexico as a power marketer for a five-year term. On October 3, 2023, Guzman Energy filed an application with DOE (Application or App.) for renewal of their export authority for an additional five-year term. App. at 1.

In its Application, Guzman Energy states that it “provides, through various subsidiaries and affiliates, a wide spectrum of wholesale electric and energy-related products and services to a diverse range of customers.” App. at 2. The Applicant further clarifies that it “is not a franchised public utility with a transmission or distribution system and does not have captive customers.” Id. The Applicant asserts that it “does not have its own system on which its exports of energy could have an impact with respect to electric supply. As such, Applicant's proposed exports would not impair the sufficiency of the electric supply on `its system,' as Applicant does not own or operate an integrated transmission or distribution system.” Id. at 5.

The existing international transmission facilities to be utilized by the Applicant have been previously authorized by Presidential permits issued pursuant to Executive Order 10485, as amended, and are appropriate for open access transmission by third parties. See id. at Exhibit C. Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning Guzman Energy's Application should be clearly marked with GDO Docket No. EA-462-A. Additional copies are to be provided directly to Robin J. Lunt, Chief Commercial Officer, Guzman Energy LLC, 1125 17th Street, Suite 740, Denver, CO 80202, rlunt@guzmanenergy.com and Max Carpenter, Managing Director of Trading and Market Operations, Guzman Energy LLC, 1125 17th Street, Suite 740, Denver, CO 80202, mcarpenter@guzmanenergy.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on November 8, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 9, 2023.
Treena V. Garrett,
Federal Register Liaison Officer, U.S. Department of Energy.

[FR Doc. 2023-25183 Filed 11-14-23; 8:45 am]

BILLING CODE 6450-01-P